SECURITIES AND EXCHANGE COMMISSION

Issuer Delisting; Notice of Application of Chromcraft Revington, Inc. To Withdraw Its Common Stock, $.01 par Value, From Listing and Registration on the New York Stock Exchange, Inc. File No. 1-13970

August 27, 2004.

On August 9, 2004, Chromcraft Revington, Inc. a Delaware corporation (“Issuer”), filed an application with the Securities and Exchange Commission (“Commission”), pursuant to section 12(d) of the Securities Exchange Act of 1934 (“Act”)¹ and Rule 12d2-2(d) thereunder,² to withdraw its common stock, $.01 par value (“Security”), from listing and registration on the New York Stock Exchange, Inc. (“NYSE” or “Exchange”).

¹ 15 U.S.C. 78l(d).

² 17 CFR 240.12d2-2(d).

The Board of Directors (“Board”) of the Issuer adopted a resolution on April 29, 2004 to withdraw the Issuer's Security from listing on the NSE and to list on the American Stock Exchange LLC (“Amex”). The Issuer stated that it decided to seek withdrawal of its Security from the NYSE because proposed changes to the continued listing requirements of the NYSE ³ would have made it more difficult for the Issuer to continue to have the Security qualified for listing on the NYSE. The Issuer further stated in its application that the Security is currently trading on the Amex.

³ See Securities Exchange Act Release No. 49917 (June 25, 2004), 69 FR 40439 (July 2, 2004) (File No. SR-NYSE-2004-20).

The Issuer represented in its application that it has complied with the NYSE's rules governing an issuer's voluntary withdrawal of a security and with all applicable laws in effect in the State of Delaware, the state in which it is incorporated. The Issuer's application relates solely to the withdrawal of the Security from listing on the NYSE, and shall not affect its continued listing on the Amex or its obligation to be registered under section 12(b) of the Act.⁴

⁴ 15 U.S.C. 78l(b).

Any interested person may, on or before September 17, 2004 comment on the facts bearing upon whether the application has been made in accordance with the rules of the NYSE and what terms, if any, should be imposed by the Commission for the protection of investors. All comment letters may be submitted by either of the following methods:

Electronic Comments

• Send an e-mail to rule-comments@sec.gov. Please include the File Number 1-13970 or;

Paper Comments

• Send paper comments in triplicate to Jonathan G. Katz, Secretary, Securities and Exchange Commission, 450 Fifth Street, NW., Washington, DC 20549-0609.

All submissions should refer to File Number 1-13970. This file number should be included on the subject line if e-mail is used. To help us process and review your comments more efficiently, please use only one method. The Commission will post all comments on the Commission's Internet Web site (http://www.sec.gov/rules/delist.shtml). Comments are also available for public inspection and copying in the Commission's Public Reference Room, 450 Fifth Street, NW., Washington, DC 20549. All comments received will be posted without change; we do not edit personal identifying information from submissions. You should submit only information that you wish to make available publicly.

The Commission, based on the information submitted to it, will issue an order granting the application after the date mentioned above, unless the Commission determines to order a hearing on the matter.

For the Commission, by the Division of Market Regulation, pursuant to delegated authority.⁵
⁵ 17 CFR 200.30-3(a)(1).
Jonathan G. Katz,
Secretary.

[FR Doc. 04-20067 Filed 9-1-04; 8:45 am]

BILLING CODE 8010-01-M